NATIONAL TRANSPORTATION SAFETY BOARD

Sunshine Act Meeting

TIME AND DATE: 9:30 a.m., Tuesday, May 10, 2022.

PLACE: NTSB Conference Center, 429 L'Enfant Plaza SW, Washington, DC 20594.

STATUS: The one item is open to the public.

MATTER TO BE CONSIDERED:

68241 Aviation Investigative Report—Collision into Terrain, Safari Aviation Inc., Airbus AS350 B2, N985SA, Kekaha, Hawaii, December 26, 2019, ANC20MA010.

CONTACT PERSON FOR MORE INFORMATION: Candi Bing at (202) 314-6403 or by email at bingc@ntsb.gov.

Media Information Contact: Eric Weiss email at eric.weiss@ntsb.gov or at (202) 314-6100.

Any press and public attending in person must comply with the COVID-19 guidelines and may enter the NTSB Conference Center one hour prior to the meeting for set up and seating.

Individuals requesting specific accommodations should contact Rochelle McCallister at (202) 314-6305 or by email at Rochelle.McCallister@ntsb.gov by Wednesday, May 4, 2022.

Additional Information: The public is invited to attend the Safety Board's meeting live by webcast at the Web address http://ntsb.windrosemedia.com. Further information about attending in person will be posted on www.ntsb.gov and NTSB social media sites closer to the event date.

Schedule updates, including weather-related cancellations, are also available at www.ntsb.gov.

The National Transportation Safety Board is holding this meeting under the Government in the Sunshine Act, 5 U.S.C. 552(b).

Dated: Friday, April 22, 2022.
Candi R. Bing,
Federal Register Liaison Officer.

[FR Doc. 2022-08945 Filed 4-22-22; 4:15 pm]

BILLING CODE 7533-01-P